DEPARTMENT OF COMMERCE

National Oceanic and Atmospheric Administration

50 CFR Part 600

[Docket No. 070719377-2189-01]

RIN 0648-AV81

Confidentiality of Information; Magnuson-Stevens Fishery Conservation and Management Reauthorization Act

AGENCY: National Marine Fisheries Service (NMFS), National Oceanic and Atmospheric Administration (NOAA), Commerce.

ACTION: Proposed rule; withdrawal.

SUMMARY: The National Marine Fisheries Service (NMFS) withdraws a proposed rule to revise existing regulations governing the confidentiality of information submitted in compliance with any requirement or regulation under the Magnuson-Stevens Fishery Conservation and Management Act (Magnuson-Stevens Act). NMFS published the proposed rule on May 23, 2012. After careful consideration, NMFS has decided that the proposed changes discussed in the proposed rule are not warranted at this time.

DATES: The proposed rule published on May 23, 2012 (77 FR 30486) is withdrawn as of January 13, 2017.

FOR FURTHER INFORMATION CONTACT: Karl Moline at 301-427-8225.

SUPPLEMENTARY INFORMATION:

Background

The Magnuson-Stevens Act sets forth information confidentiality requirements at section 402(b), 16 U.S.C. 1881a(b). Section 402(b)(3) of the Act provides that the “Secretary shall, by regulation, prescribe such procedures as may be necessary to preserve the confidentiality of information submitted in compliance with any requirement or regulation under this Act . . .”. Id. 1881a(b)(3). Accordingly, NMFS has promulgated confidentiality of information regulations, which are set forth at 50 CFR part 600, subpart E. Certain terms used in these regulations are defined under 50 CFR part 600, subpart A. NMFS last revised the regulations under subpart E in February 1998 (63 FR 7075).

On May 23, 2012, NMFS proposed revisions to its regulations at 50 CFR part 600 subpart A, subpart B, and subpart E, in order to implement confidentiality requirements amendments, which were included in the 1996 Sustainable Fisheries Act (SFA) and the 2006 Magnuson Stevens Fishery Conservation and Management Reauthorization Act (MSRA) (77 FR 30486). In the proposed rule, NMFS proposed three types of changes: (1) Changes related to broadening the scope of the confidentiality requirements, (2) changes concerning exceptions authorizing the disclosure of confidential information, and lastly, (3) non-substantive changes intended to improve the clarity and accuracy of the regulations.

During the proposed rule's comment period, NMFS received several requests from fishery management councils and representatives of fishing and environmental organizations to extend the comment period to allow the councils and other organizations to review the proposed rule and prepare comments. On June 13, 2012, NMFS published a notice in the Federal Register extending the comment period end date of the proposed rule from June 22, 2012 to August 21, 2012 (77 FR 35349). Subsequently, NMFS received requests to extend the comment period beyond August 21, 2012. In response, NMFS published a notice in the Federal Register extending the comment period an additional 60 days, from August 21, 2012 to October 21, 2012 (July 26, 2012, 77 FR 43803).

NMFS would like to reevaluate the proposed revisions to the existing regulations governing the confidentiality of information submitted in compliance with the Magnuson-Stevens Act. As a result, NMFS has decided that the changes covered in the proposed rule from 2012 are not warranted at this time. Therefore, NMFS is withdrawing the proposed rule published in the Federal Register on May 23, 2012 (77 FR 30486).

Authority: 16 U.S.C. 1801 et seq.

Dated: January 5, 2017.
Samuel D. Rauch III,
Deputy Assistant Administrator for Regulatory Programs, National Marine Fisheries Service.

[FR Doc. 2017-00307 Filed 1-12-17; 8:45 am]

BILLING CODE 3510-22-P